FEDERAL COMMUNICATIONS COMMISSION

Open Commission Meeting, Thursday, September 29, 2016

September 22, 2016.

The Federal Communications Commission will hold an Open Meeting on the subjects listed below on September 29, 2016 which is scheduled to commence at 10:30 a.m. in Room TW-C305, at 445 12th Street SW., Washington, DC.

Item No. | Bureau | Subject
1 | Public Safety & Homeland Security | Title: Improving Wireless Emergency Alerts (PS Docket No. 15-91); Amendments to Part 11 of the Commission's Rules Regarding the Emergency Alert System (PS Docket No. 15-94).
|  | Summary: The Commission will consider a Report and Order and Further Notice of Proposed Rulemaking that would leverage advancements in technology to improve wireless emergency alert content, delivery and testing, while seeking comment on further measures to ensure effective alerts.
2 | International and Media | Title: Review of Foreign Ownership Policies for Broadcast, Common Carrier and Aeronautical Radio Licensees under Section 310(b)(4) of the Communications Act of 1934, as Amended (GN Docket No. 15-236).
|  | Summary: The Commission will consider a Report and Order that extends to broadcast licensees the same streamlined rules and procedures that common carrier wireless licensees use to seek approval for foreign ownership, with appropriate broadcast-specific modifications. The item also establishes a framework for a publicly traded common carrier or broadcast licensee or controlling U.S. parent to ascertain its foreign ownership levels.
3 | Media | Title: Promoting the Availability of Diverse and Independent Sources of Video Programming (MB Docket No. 16-41).
|  | Summary: The Commission will consider a NPRM that proposes steps the Commission can take to promote the distribution of independent and diverse programming to consumers.
4 | Media | Title: Expanding Consumers' Video Navigation Choices (MB Docket No. 16-42); Commercial Availability of Navigation Devices (CS Docket No. 97-80).
|  | Summary: The Commission will consider a Report and Order that modernizes the Commission's rules to allow consumers to use a device of their choosing to access multichannel video programming instead of leasing devices from their cable or satellite providers.
5 | General Counsel | Title: In the Matters of Matthew Keys and Shawn Musgrave on Request for Inspection of Records (FOIA Control Nos. 2014-669, 2015-000649).
|  | Summary: The Commission will consider a Memorandum Opinion and Order concerning Applications for Review filed by Matthew Keys and Shawn Musgrave, which appealed two separate decisions by the Office of Engineering and Technology addressing Freedom of Information Act requests.
6 | Media | Title: Powell Meredith Communications Company, Application for Modification to Low Power Television Station KBFY-LP, Fortuna, Arizona.
|  | Summary: The Commission will consider a Memorandum Opinion and Order concerning the Application for Review filed by PMCC.
7 | Media | Title: Bernard Dallas LLC, Assignor, and ACM Dallas V LLC, Assignee, Applications for Assignment of Licenses for KFCD(AM), Farmersville, Texas, and KHSE(AM), Wylie, Texas, and ACM Dallas V LLC, Assignor, and Hammond Broadcasting, LLC, Assignee, Application for Assignment of License for KHSE(AM), Wylie, Texas.
|  | Summary: The Commission will consider a Memorandum Opinion and Order concerning an Application for Review of the Media Bureau's grant of license assignment applications.

* * * * *

Consent Agenda

The Commission will consider the following subjects listed below as a consent agenda and these items will not be presented individually:

1 | Enforcement | Title: Enforcement Bureau Action.
|  | Summary: The Commission will consider an enforcement action.
2 | Enforcement | Title: Enforcement Bureau Action.
|  | Summary: The Commission will consider an enforcement action.
3 | Enforcement | Title: Enforcement Bureau Action.
|  | Summary: The Commission will consider an enforcement action.
4 | Enforcement | Title: Enforcement Bureau Action.
|  | Summary: The Commission will consider an enforcement action.

* * * * *

Personnel Actions

The Commission will consider the following personnel actions listed below and these items will not be presented individually:

1 | Managing Director | Title: Personnel Action #1.
|  | Summary: The Commission will consider a personnel action.
2 | Managing Director | Title: Personnel Action #2.
|  | Summary: The Commission will consider a personnel action.
3 | Managing Director | Title: Personnel Action #3.
|  | Summary: The Commission will consider a personnel action.
4 | Managing Director | Title: Personnel Action #4.
|  | Summary: The Commission will consider a personnel action.
5 | Managing Director | Title: Personnel Action #5.
|  | Summary: The Commission will consider a personnel action.
6 | Managing Director | Title: Personnel Action #6.
|  | Summary: The Commission will consider a personnel action.

The meeting site is fully accessible to people using wheelchairs or other mobility aids. Sign language interpreters, open captioning, and assistive listening devices will be provided on site. Other reasonable accommodations for people with disabilities are available upon request. In your request, include a description of the accommodation you will need and a way we can contact you if we need more information. Last minute requests will be accepted, but may be impossible to fill. Send an email to: fcc504@fcc.gov or call the Consumer & Governmental Affairs Bureau at 202-418-0530 (voice), 202-418-0432 (TTY).

Additional information concerning this meeting may be obtained from the Office of Media Relations, (202) 418-0500; TTY 1-888-835-5322. Audio/Video coverage of the meeting will be broadcast live with open captioning over the Internet from the FCC Live Web page at www.fcc.gov/live.

For a fee this meeting can be viewed live over George Mason University's Capitol Connection. The Capitol Connection also will carry the meeting live via the Internet. To purchase these services, call (703) 993-3100 or go to www.capitolconnection.gmu.edu.

Federal Communications Commission.
Marlene H. Dortch,
Secretary.

[FR Doc. 2016-23475 Filed 9-28-16; 8:45 am]

BILLING CODE 6712-01-P